DEPARTMENT OF DEFENSE

Department of the Army

Final Legislative Environmental Impact Statement (LEIS) for the Limestone Hills Training Area Land Withdrawal, Montana Army National Guard (MTARNG)

AGENCY: National Guard Bureau (NGB), Department of the Army, DoD.

ACTION: Notice of availability.

SUMMARY: This announces the availability of the Final LEIS prepared by NGB (lead agency) and the Bureau of Land Management (BLM) of the Department of Interior (DOI) (cooperating agency). The LEIS analyzed the proposed withdrawal of 18,644 acres of federal land within the Limestone Hills Training Area (LHTA) from BLM administration. The LEIS proposes that Congress authorize BLM to transfer administrative responsibility of all federal land within the LHTA to the Army for military training use by the MTARNG. No new facilities are proposed in this LEIS. The LEIS is the detailed statement required by the National Environmental Policy Act to be included in a recommendation or report on a legislative proposal to Congress.

DATES: The waiting period will end 30 days after publication of a notice of availability in the Federal Register by the U.S. Environmental Protection Agency.

ADDRESSES: Written comments or questions should be forwarded by mail to Ms. Sundi West, MTARNG, Fort Harrison, 1956 MT Majo Street, P.O. Box 4789, Helena, Montana 59636-4789, via telephone at (406) 324-3088, or via e-mail at Sundi.West@us.army.mil.

FOR FURTHER INFORMATION CONTACT: Ms. Sherri Lionberger, BLM, 106 North Parkmont, Butte, Montana 59701, via telephone at (406) 533-7671, or via e-mail at slionber@blm.gov.

SUPPLEMENTARY INFORMATION: The purpose of the LEIS is to provide comprehensive analysis of the proposed action and alternatives to the Secretaries of Interior and Army so findings and recommendations can be forwarded to Congress regarding the proposed land withdrawal. The study area for the environmental analysis is resource dependent. It includes Lewis and Clark County and Broadwater County for socioeconomic resources, MTARNG facilities for military mission, and the LHTA for biological and mineral resources.

The LEIS analyzes potential environmental effects of three action alternatives and a No Action Alternative. Action Alternatives 2 and 3 were developed as a result of the LEIS scoping process.

Alternative 1: This was the MTARNG's original proposed action. Under the proposed action, management responsibility for all resources, except for mineral resources, would be shifted from the BLM to the MTARNG. Under this alternative, the Department of the Army could exercise its authority to condemn private land, and/or terminate any mineral claim or grazing permits.

Alternative 2: Under this alternative, the MTARNG and BLM would share resource management responsibilities. MTARNG would manage most resources in the LHTA's closure area. BLM would manage most resources in the non-closure area. The closure area is the portion of the LHTA that restricts access without prior approval of the MTARNG. The non-closure area is the portion of LHTA that is open to public access for surface use only.

Alternative 3: (Preferred Alternative): Under this alternative, the LHTA would be withdrawn from BLM jurisdiction with modifications based on scoping comments and stakeholder recommendations. The proposed withdrawal area is approximately 18,644 acres of federal land that encloses state-owned and private land which is not included in the withdrawal.

Under the No Action Alternative, the BLM's current right-of-way grant for military use of the LHTA by MTARNG would not be renewed. The current right-of-way grant expires in 2014.

This LEIS is a component of the legislative proposal package that BLM will submit to DOI and the Office of Management and Budget. After agency review and concurrence, the DOI will transmit the proposed legislation to Congress.

Significant Issues: The LHTA is a 23,110 acre parcel of land with private and state-owned in-holdings totaling approximately 2,666 acres. The BLM manages 20,444 acres of the total acreage and allows the MTARNG to conduct military training on its property through the right-of-way grant. The public land is also used for grazing, mining, recreation, transportation, utility right-of-ways, and wildlife management. A limestone mine is currently operating within the LHTA. All federally-managed LHTA land falls within one of seven grazing allotments. In addition, the MTARNG is currently engaged in clearing unexploded ordnance from an LHTA range that is no longer in use.

Issues considered in the LEIS include the following: (1) Continued ability of Graymont Western's Indian Creek Limestone Mine to extract and process ore within the LHTA; (2) allocation and management of grazing allotments; (3) public access to the LHTA; (4) noise and dust generated during training exercises, and by vehicular traffic; (5) impacts to Broadwater County due to possible termination of BLM payments in lieu of taxes if the withdrawal is granted; (6) potential impacts to wildlife in the Elkhorn Management Area; (7) consistency of land management policies after transfer of administrative responsibilities; (8) potential impacts to range management and cleanup activities; (9) owner access to, and use of, in-holdings; and (10) impacts to the local economy and MTARNG training under the no action alternative.

Potentially significant adverse impacts to socioeconomics are expected under Alternative 1 and the No Action Alternative. There are no potentially significant adverse impacts expected under Alternatives 2 or 3.

Brenda S. Bowen,
Army Federal Register Liaison Officer.

[FR Doc. 2011-25204 Filed 9-29-11; 8:45 am]

BILLING CODE 3710-08-P